DEPARTMENT OF AGRICULTURE

Forest Service

Ogden District Travel Plan; Ogden Ranger District, Wasatch-Cache National Forest; Box Elder, Cache, Rich, Weber and Morgan Counties, UT

AGENCY: Forest Service, USDA.

ACTION: Notice of intent to prepare an environmental impact statement.

SUMMARY: The project will update the travel management plan for the Ogden Ranger District focusing on summer season motorized travel routes and how these routes will be used. The analysis and disclosure will assess the effects of alternatives on physical, biological and social resources including non-motorized recreation. The current travel management plan was developed in 1988 and amended in 1991. This project acknowledges changed environmental and social conditions and will respond with an improved plan and map to direct motorized access and use of the Ogden Ranger District.

DATES: Comments concerning the scope of the analysis must be received by April 30, 2004. It is important to note that scoping responses received on the Ogden Ranger District Travel Plan Update during July-August 2003 are accepted in this EIS planning process; no other action is required of those who responded to scoping in July-August 2003 to have those original comments incorporated into and made part of this planning process. A draft environmental impact statement is expected to be published in October 2004, with public comment on the draft material requested for a period of 45 days, and completion of a final environment impact statement is expected April 2005.

ADDRESSES: Send written comments to: District Ranger, Ogden Ranger District, 507 25th Street, Suite 103, Ogden, UT 84401, ATTN: Travel Plan.

FOR FURTHER INFORMATION CONTACT: Rick Vallejos, Recreation Forester, Ogden Ranger District, 507 25th Street, Suite 103, Ogden, UT 84401, (801) 625-5112; or e-mail at: comments-intermtn-wasatch-cache-ogden@fs.fed.us.

SUPPLEMENTARY INFORMATION:

Purpose and Need for Action

The purpose of the proposed action is to implement decisions made in the 2003 Forest Plan Revision for the Wasatch-Cache National Forest that result in a system of motorized roads and trails that provides opportunities for quality motorized recreation experiences, administrative access for Forest Service personnel and permittees, healthy wildlife habitat, stable soil, high quality water, sustainable vegetation and outstanding scenery.

The need for change is demonstrated by the following: Since the Ogden Ranger District travel plan was last revised in 1991, demands for motorized recreational experiences have increased dramatically. In this period of time there has been a surge in the popularity of summer motorized recreation especially Off-Highway Vehicle (OHV) use.

While quantitative data is lacking, field observation clearly shows that this increase in demand for motorized recreation experiences has come at a cost. There are abundant examples where unmanaged motorized recreational use has resulted in a labyrinth of unauthorized OHV's trails, denuded hillsides, erosion from gullies and ruts, loss of aesthetic appeal, and deterioration of quality wildlife habitat.

The system of roads and motorized trails on the Ogden Ranger District has evolved over time. Like many of the tracts of land acquired by the Forest Service over the years, the area being studied in this analysis contains a number of old roads and trails. Some of these historical roads and trails were incorporated into the Ogden Ranger District travel system when the 1988 and 1991 travel management plans were completed. Traces of many travelways have remained and continue to be used inappropriately by the public. Over the past decade there has been an alarming increase in illegal user created trails. The process of incorporating roads and trails into the Ranger District's travel management system while user created travelways continue to evolve has created an unacceptable situation for management and provided unclear direction to the public.

The objective of this analysis is to take a systematic look at these historic and user created trails and make decisions about which should be incorporated into the system and which should be removed and rehabilitated. The proposed action also includes several new motorized trail segments to be added to the system. By carefully considering what should be included in its motorized travel system, the Ogden Ranger District will be positioned to: provide quality motorized opportunities; better manage increased demand and, reduce environmental damage.

Proposed Action

The Ogden Ranger District of the Wasatch-Cache National Forest is proposing 28 separate projects and changes to update the existing Travel Management Plan. These projects are identical to those proposed in the July 2003 scoping document. Included are the following:

Curtis Creek Area

1. Otter Creek road—No FS Road Number—0.43 miles—Add this road to the system to connect BLM roads through National Forest.

2. Red Spur Radio—FS Road Number 20205—1.03 miles—Add a road to the system that has few environmental impacts and is used to access the radio sites.

3. Dry Fork—FS Road Number 20162—1.08 miles—Close northern piece of road to public use that has drainage problems and not needed for access.

4. Valley Ridge North—No FS Road Number—0.2 miles—Add this road to the system to connect BLM roads and bypass a section of closed road.

5. Big Crawford Spring—FS Road Number 26704, 26705, 26706-1.38 miles—Close three sections of road with drainage problems and not needed for access.

6. Zion Spring—FS Road Number 20221—1.17 miles—Close and obliterate a section of the road past the spring that is not needed.

7. Tilda Springs ATV—No FS Road Number—0.83 miles—Build a new ATV trail to expand the existing system of trails.

8. Davenport Hollow—FS Road Number 20196—2.34 miles—Add a road to the system that expands ATV opportunities and ends at a scenic overlook.

9. Tilda Springs ATV—FS Road Number 26001 to 26004—1.98 miles—Add four sections to the system of open ATVs trails to expand motorized opportunities.

Monte Cristo Area

10. Dairy Wash ATV trail—No FS Road Number—2.02 miles—Build a new ATV trail adjacent to State Highway 39 to connect existing open roads.

11. Silvia Hollow Trail—FS Trail Number 6314 to 6317—4.95 miles—Change the designation of non-motorized trails to allow ATV use on the power line roads.

12. Dairy Ridge 2—FS Road Number 26731—0.40 miles—Add a road that has few environmental impacts and could access a proposed gravel source.

13. Silvia Hollow and Wasatch Dispersed—FS Road Number 20069, 26733—1.64 miles—Add two roads to the system of approved roads that have few environmental impacts and access existing dispersed camp sites.

14. Dry Bread Upper—FS Road Number 20107—1.33 miles—Open a previously closed road to ATV travel that would create few environmental impacts.

South Fork Area

15. Camp Red Cliffe—FS Road Number 20191—0.47 mile—Close this road used by the camps and cabins to reduce management problems but allow permitted use.

Lewis Peak Area

16. North Ogden Canyon Trail—FS Trail Number 6083—1.78 miles—Change the designation from non-motorized system trails to allow motorcycle use. ATVs will not be allowed. This trails uses the road under the power line and connects to the Skyline trail currently open to motorcycles.

17. Dry Canyon Overlook and City View Trails—FS Trail Numbers 6352, 6040—1.88 miles—Change the designation from non-motorized system trails to allow motorcycle use. These trails connect to the Lewis Peak trail currently open to motorcycles.

Inspiration Point—Willard Mountain Area

18. Willard ATV Trail—FS Trail Number 6323—1.50 miles—Change the designation from motorized system trails to non-motorized use only since this trail is causing environmental impacts and is hard to maintain for motorized recreation.

19. Inspiration Point Trail—FS Trail Number 6091—0.48 mile—Change the designation on motorcycle-only motorized trails to allow ATV use. This trail connects to the Willard Peak road currently open to motorized use.

20. Willard Lake Trail—FS Trail Number 6090—1.36 miles—Change the designation from non-motorized trails to allow ATV use. This trail connects to the Willard Peak road currently open to motorized use and would add a new motorized recreation loop opportunity.

Public Grove Area

21. Public Grove 4×4—FS Road number 20220—2.61 miles—Add a road to the system of approved roads to connect two county roads together.

22. Public Hollow Loop 4×4 and Flat Canyon 4×4—FS Road Numbers 20092, 26015—1.60 miles—Close and obliterate two sections of road to reduce environmental impacts. These roads are currently closed each spring to prevent damage.

Willard Area

23. Brigham City Water—No Road Number—0.51 miles—Add a road that will be used as access to developed springs on National Forest.

24. Devils Hole Canyon ATV Trail—No FS Trail Number—1.77 miles—Build a new ATV trail to reduce mixed use traffic on the main road.

25. Box Elder Creek Trail—No FS Trail Number—2.62 miles—Add an ATV trail to the system of approved trails to increase motorized recreation opportunities.

26. Petes Hollow Trail—No FS Trail Number—2.37 miles—Add an ATV trail to the system of approved trails to increase motorized recreation opportunities and link the Front Range trails to the Willard area.

27. Grizzly Peak 4×4—FS Road Number 20091—0.57 mile—Close and obliterate a section of this road that is difficult to maintain and is a low priority for access.

28. Perry Reservoir—FS Road Number 20070—0.15 mile—Close and obliterate a section of the road at the reservoir to reduce environmental impacts.

Possible Alternatives

Three alternatives to the proposed action are currently envisioned: (1) A no action alternative, that would continue management under the existing travel plan; (2) an alternative that emphasizes the protection of wildlife values identified in the revised Wasatch-Cache Forest Plan; (3) an alternative that provides for motorized recreation opportunities for parts of the Ogden Ranger District without placing other values at substantial risk.

Responsible Official

The Responsible Official is Chip Sibbernsen, District Ranger, Ogden Ranger District, 507 25th Street, Suite 103, Ogden, UT 84401.

Nature of Decision To Be Made

The decision to be made is to identify the system of summer motorized roads and trails on the Ogden Ranger District. It will also define what types of vehicles can be used, season restrictions, other timing restrictions and those routes that are open to “administrative use” for a the purpose of law enforcement, infrastructure maintenance and fire protection. The decision will also include mitigation measures to reduce environmental impacts associated with the transportation system and its use.

Scoping Process

Scoping for this project was initiated on July 18, 2003, with a letter signed by Chip Sibbernsen that included a proposed action and maps. The scoping comment period was open until August 22, 2003, and nearly 60 public responses were received. As a result of this scoping several respondents felt the scope and complexity of the proposed action would require an environmental impact statement (EIS). This notice of intent reopens scoping so that the original respondents can add comments to those originally submitted, or so that other interested individuals may comment if they so desire. It is important to note that the original scoping responses received during July-August 2003 are accepted in this EIS planning process; no other action is required of those who responded to scoping in July-August 2003 to have their original comments included into and made part of this planning process.

Preliminary Issues

Several preliminary issues were identified through the public scoping process conducted in July and August 2003. These issues relate to: (1) Water quality; (2) invasion by noxious weeds; (3) sensitive fish populations, especially Bonneville cutthroat trout; (4) wildlife habitat and an important regional wildlife corridor identified in the revised Forest Plan; (5) roadless area values; and, (6) non-motorized recreation opportunities.

Comment Requested

This notice of intent reinitiates the scoping process to help guide the development of the environmental impact statement. As indicated above, scopingresponses received during July-August 2003 are accepted in this EIS planning process, and no other action is required of those who responded to scoping in July-August 2003 to have their original comments made part of this planning process. Any new comments are also welcome, either of those who commented in the past or from newly interested parties.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, section 21)
Dated: March 24, 2004.
Chip Sibbernsen,
Ogden District Ranger.

[FR Doc. 04-7124 Filed 3-30-04; 8:45 am]

BILLING CODE 3410-11-M